DEPARTMENT OF VETERANS AFFAIRS

38 CFR Part 2

RIN 2900-AN09

Delegations of Authority: Regulation Policy and Management

AGENCY: Department of Veterans Affairs.

ACTION: Final rule.

SUMMARY: This document amends the Department of Veterans Affairs (VA) regulations that delegate authority to manage, direct, and coordinate VA's rulemaking activities to certain officials. The amendments reflect the Secretary of Veterans Affairs' decisions to designate the General Counsel as the Department's Regulatory Policy Officer and to transfer the Office of Regulation Policy and Management to the Office of the General Counsel. These amendments are intended to provide VA with a single point of contact who can respond to the Secretary's rulemaking concerns.

DATES: Effective Date: March 10, 2009.

FOR FURTHER INFORMATION CONTACT: Robert C. McFetridge, Director, Regulation Policy and Management (02REG), Office of the General Counsel, U.S. Department of Veterans Affairs, 810 Vermont Avenue, NW., Washington, DC 20420, telephone (202) 461-4902. (This is not a toll-free number.)

SUPPLEMENTARY INFORMATION: The Office of Regulation Policy and Management (ORPM) was established to provide centralized management and coordination for VA's decentralized rulemaking process. The head of ORPM was designated as the Assistant to the Secretary for Regulation Policy and Management (ASRPM) and served as VA's Regulatory Policy Officer until the Deputy Secretary became VA's Regulatory Policy Officer in accordance with Executive Order 13422, which amended Executive Order 12866 (Regulatory Planning and Review) to require that position to be filled by a Presidential appointee. Subsequently, on June 10, 2008, the Secretary designated the General Counsel as the Department's Regulatory Policy Officer and transferred ORPM from the Office of the Secretary to the Office of the General Counsel (OGC). ORPM's name and mission remain the same, but that office is now in direct support of the General Counsel. The ASRPM has become OGC's Director for Regulation Policy and Management to assist the General Counsel in supervising VA's rulemaking process and VA's compliance with Executive Order 12866.

This document removes the Secretary's delegations of rulemaking authority to the ASRPM in 38 CFR 2.6(l) and adds provisions concerning rulemaking authority in the delegations of authority to the General Counsel in 38 CFR 2.6(e).

Administrative Procedure Act

This document pertains to agency organization and management. Accordingly, its publication as a final rule with no delay in its effective date is pursuant to 5 U.S.C. 553, which exempts such a document from the notice-and-comment and delayed-effective-date requirements of section 553.

Executive Order 12866

Because this document is limited to agency organization and management, it is not within the definition of “regulation” in section 3(d) of Executive Order 12866 and therefore not subject to that Executive Order's requirements for regulatory actions.

Unfunded Mandates

The Unfunded Mandates Reform Act of 1995 requires, at 2 U.S.C. 1532, that agencies prepare an assessment of anticipated costs and benefits before issuing any rule that may result in expenditure by State, local, and tribal governments, in the aggregate, or by the private sector, of $100 million or more (adjusted annually for inflation) in any year. This rule will have no such effect on State, local, and tribal governments, or on the private sector.

Paperwork Reduction Act of 1995

This document contains no provisions constituting a collection of information under the Paperwork Reduction Act of 1995 (44 U.S.C. 3501-3521).

Regulatory Flexibility Act

The initial and final regulatory flexibility analysis requirements of sections 603 and 604 of the Regulatory Flexibility Act, 5 U.S.C. 601-612, are not applicable to this rule, because a notice of proposed rulemaking is not required for this rule. Even so, the Secretary hereby certifies that this regulatory amendment will not have a significant economic impact on a substantial number of small entities as they are defined in the Regulatory Flexibility Act. This amendment will not directly affect any small entities. Therefore, this amendment is also exempt pursuant to 5 U.S.C. 605(b) from the initial and final regulatory flexibility analysis requirements of sections 603-604.

Catalog of Federal Domestic Assistance

There are no Catalog of Federal Domestic Assistance program numbers for this rule.

List of Subjects in 38 CFR Part 2

Authority delegations (Government agencies).

Approved: February 24, 2009.
John R. Gingrich,
Chief of Staff, Department of Veterans Affairs.

For the reasons set forth in the preamble, VA amends 38 CFR part 2 as follows:

PART 2—DELEGATIONS OF AUTHORITY

1. The authority citation for part 2 continues to read as follows:

Authority: 5 U.S.C. 302, 552a; 38 U.S.C. 501, 512, 515, 1729, 1729A, 5711; 44 U.S.C. 3702, and as noted in specific sections.

2. Amend § 2.6 by:

a. Adding paragraph (e)(1).

b. Removing paragraph (l).

The addition reads as follows:

§ 2.6 Secretary's delegations of authority to certain officials (38 U.S.C. 512).

* * * * *

(e) * * *

(1) The General Counsel is delegated authority to serve as the Regulatory Policy Officer for the Department in accordance with Executive Order 12866. The General Counsel, Deputy General Counsel, and Director for Regulation Policy and Management are delegated authority to manage, direct, and coordinate the Department's rulemaking activities, including the revision and reorganization of regulations, and to perform all functions necessary or appropriate under Executive Order 12866 and other rulemaking requirements.

(Authority: 38 U.S.C. 501, 512)

* * * * *

[FR Doc. E9-5063 Filed 3-9-09; 8:45 am]

BILLING CODE 8320-01-P